ENVIRONMENTAL PROTECTION AGENCY

40 CFR Part 52

[EPA-R07-OAR-2013-0698; FRL-9903-73-Region 7]

Approval and Promulgation of Implementation Plans; State of Missouri

AGENCY: Environmental Protection Agency (EPA).

ACTION: Proposed rule.

SUMMARY: EPA is proposing to approve a revision to the State Implementation Plan (SIP) submitted by the State of Missouri which revises the written reporting requirements for maintenance, start-up, or shutdown activities; updates the information a source operator must provide to the department when a notice of excess emissions is received; and corrects references in the reporting and record keeping section.

DATES: Comments must be received on or before January 2, 2014.

ADDRESSES: Submit your comments, identified by Docket ID No. EPA-R07-OAR-2013-0698, by one of the following methods:

1. www.regulations.gov: Follow the on-line instructions for submitting comments.

2. Email: bhesania.amy@epa.gov.

3. Mail or Hand Delivery or Courier: Amy Bhesania, Environmental Protection Agency, Air Planning and Development Branch, 11201 Renner Boulevard, Lenexa, Kansas 66219.

Instructions: Direct your comments to Docket ID No. EPA-R07-OAR-2013-0698. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket. All documents in the electronic docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Air Planning and Development Branch, 11201 Renner Boulevard, Lenexa, Kansas 66219. EPA requests that you contact the person listed in the FOR FURTHER INFORMATION CONTACT section to schedule your inspection. The interested persons wanting to examine these documents should make an appointment with the office at least 24 hours in advance.

FOR FURTHER INFORMATION CONTACT: Amy Bhesania, Environmental Protection Agency, Air Planning and Development Branch, 11201 Renner Boulevard, Lenexa, Kansas 66219 at (913) 551-7147, or by email at bhesania.amy@epa.gov.

SUPPLEMENTARY INFORMATION: Throughout this document “we,” “us,” or “our” refer to EPA. This section provides additional information by addressing the following:

I. What is being addressed in this document?

II. Have the requirements for approval of a SIP revision been met?

III. What action is EPA taking?

I. What is being addressed in this document?

EPA is proposing to approve revisions to the Missouri SIP submitted to EPA on July 8, 2010 which amend 10 CSR 10-6.050 Start-up, Shutdown, and Malfunction Conditions. Specifically, Missouri amended subsection 3(B) to remove the option for verbal notification and therefore only written notification is allowed for any maintenance, start-up, or shutdown activity which is expected to cause an excess release of emissions that exceeds one hour. This change makes the written notification requirements consistent for subsections 3(B) which covers maintenance, start-up and shutdown, and 3(A) which covers malfunctions. Subparagrah 3(B)3 was removed because the requirement was only applicable to malfunctions which is addressed in subsection 3(A).

The remaining revisions to the rule are administrative changes which revise the rule to be consistent with the state's standard rule format or make other minor clarifying changes. Subparagraphs 3(B)3 through 3(B)9 were renumbered to adjust for the removal of item 3(B)3. Subparagraph 3(C)2 includes minor administrative changes to meet the state's standard rule format. Subparagraph 3(C)2A and 3(C)2B were removed because they were redundant and replaced with references to the appropriate applicable subsections of the rule. Subsection 4(B) was revised to be consistent with the state's standard rule format.

In a separate action on February 22, 2013, EPA has proposed to address a petition by Sierra Club related to SSM provisions, including 10 CSR 10-6.050(3)(C) (78 FR 12459). In this separate action, EPA proposed to deny the petitioner's request that EPA take action under Clean Air Act (CAA) section 110 (k)(5) or (6) to direct the state to revise this provision. The revisions proposed in today's action do not address the sections of the regulation challenged by the Sierra Club in its petition. The revisions proposed in today's action clarify and strengthen the Missouri SIP. By removing the option for oral notification in 10 CSR 10-6.050(3)(B), and requiring written notification, the Missouri SIP is more stringent. The revision in 10 CSR 10-6.050(3)(C)2. A. clarifies the notification requirements for malfunctions by referring to section 10 CSR 10-6.050(3)(A). The revision in 10 CSR 10-6.050 (3)(C)2.B. clarifies the general notification requirements for maintenance, startup, or shutdown activities by referring to the general notification requirements set forth in 10 CSR 10-6.050(3)(B).

The revisions proposed in today's action are consistent with CAA requirements for SIP provisions and do not violate the anti-backsliding provisions in section 110(l) or section 193 of the CAA because they are SIP strengthening and do not interfere with any applicable requirements concerning attainment or reasonable further progress nor do they affect control measures in effect prior to the 1990 CAA Amendments related to nonattainment areas. Further, these proposed revisions are consistent with the action proposed by EPA on February 22, 2013 as mentioned above (78 FR 12459).

II. Have the requirements for approval of a SIP revision been met?

The state submission has met the public notice requirements for SIP submissions in accordance with 40 CFR 51.102. The submission also satisfied the completeness criteria of 40 CFR part 51, appendix V. In addition, as explained above, the revision meets the substantive SIP requirements of the CAA, including section 110 and implementing regulations.

III. What action is EPA taking?

EPA is proposing to approve the request to amend the Missouri SIP by approving the state's request to amend 10 CSR 10-6.050 Start-Up, Shutdown, and Malfunction to update written reporting requirements, correct references, and other minor clarifying changes. Approval of these revisions will ensure consistency between state and Federally-approved rules. EPA has determined that these changes will not relax the SIP or adversely impact air emissions.

We are processing this as a proposed action because we are soliciting comments on this proposed action. Final rulemaking will occur after consideration of any comments.

Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this proposed action merely approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 20, 2013.
Karl Brooks,
Regional Administrator, Region 7.

[FR Doc. 2013-28947 Filed 12-2-13; 8:45 am]

BILLING CODE 6560-50-P